DEPARTMENT OF ENERGY

Submission for OMB Review; Comment Request

AGENCY: Department of Energy.

ACTION: Agency information collection extension.

SUMMARY: The Department of Energy (DOE) has submitted renewals for an additional three years for the information collection(s) listed at the end of this notice to the Office of Management and Budget (OMB) for review under sections 3507(h)(1) and 3506(c) of the paperwork Reduction Act of 1995 (Pub. L. 104-13).

Each entry contains the following information: (1) The collection number and title; (2) A summary of the collection of information, type of request (new, revision, extension, or reinstatement), response obligation (mandatory, voluntary, or required to obtain or retain benefits); (3) a description of the need and proposed use of the information, (4) a description of the likely respondents; and (5) an estimate of the total annual reporting burden (i.e., the estimated number of likely respondents times the proposed frequency of response per year times the average hours per response).

DATES: Comments must be filed on or before February 6, 2003. If you anticipate that you will be submitting comments but find it difficult to do so within the time allowed by this notice, you should advise the OMB DOE Desk Officer listed below of your intention to do so as soon as possible. The OMB Desk Officer may be telephoned at (202) 395-7318. (Also, please notify the DOE contact listed below.)

ADDRESSES: Address comments to the DOE Desk Officer, Office of Information and Regulatory Affairs (OIRA), Office of Management and Budget, Room 10102 725 17th Street, NW., Washington, DC 20503. (Comments should also be addressed to the Records Management Division, Office of the Chief Information Officer, at the addressee below.)

SUPPLEMENTARY INFORMATION: The information collections submitted to OMB for review were:

(1) Title: Personal Property; (2) Current OMB control Number: 1910-1000. (3) Type of Respondents: DOE management and operating contractors and offsite contractors. (4) Estimated Number of Responses: 111; (5) Estimated Total Burden Hours: 1,880. (6) Purpose: This provides the Department with the information necessary for the management, control, reutilization, and disposal of government personal property. (7) Number of Collections: The package contains 3 information and/or recordkeeping requirements.

Statutory Authority: Sections 3507(h) (1) and 3506(c) of the Paperwork Reduction Act of 1995 (Pub. L. 104-13).

Issued in Washington, DC, on December 30, 2002.
Susan L. Frey,
Director, Records Management Division, Office of Records and Business Management, Office of the Chief Information Officer.

[FR Doc. 03-262 Filed 1-6-03; 8:45 am]

BILLING CODE 6450-01-P